DEPARTMENT OF JUSTICE

Antitrust Division

Notice Pursuant To The National Cooperative Research and Production Act of 1993—National Electronics Manufacturing Initiative (“NEMI”)

Notice is hereby given that, on November 29, 2000, pursuant to section 6(a) of the National Cooperative Research and Production Act of 1993, 15 U.S.C. 4301 et seq. (“the Act”), National Electronics Manufacturing Initiative (“NEMI”) has filed written notifications simultaneously with the Attorney General and the Federal Trade Commission disclosing changes in its membership status. The notifications were filed for the purpose of extending the Act's provisions limiting the recovery of antitrust plaintiffs to actual damages under specified circumstances. Specifically, Extricity Inc., Redwood Shores, CA; IBM Corporation, Endicott, NY; Ingenous Corporation, Sunnyvale, CA; Kester Soldor, Des Plaines, IL; META Group, Stamford, CT; PTC, Toronto, Ontario, Canada; Texas Instruments, Inc., Sherman, TX; SCI Systems, Inc., Huntsville, AL; and Storage Technology Corporation, Louisville, CO have been added as parties to this venture. The following members have changed their names: Newbridge Networks Corporation to ALCATEL CANADA, Inc., Kanata, Ontario, Canada; and HADCO Corporation to Sanmina Corporation, Salem, NH. Also, Microelectronics and Computer Technology Corporation (MCC), Austin, TX; Chad Industries, Orange, CA; and Lambda Technologies, Harrisburg, PA have been dropped as parties to this venture.

No other changes have been made in either the membership of planned activity of the group research project. Membership in this group research project remains open, and NEMI intends to file additional written notification disclosing all changes in membership.

On June 6, 1996, NEMI filed its original notification pursuant to section 6(a) of the Act. The Department of Justice published a notice in the Federal Register pursuant to section 6(b) of the Act on June 28, 1996 (61 FR 33774).

The last notification was filed with the Department on January 14, 2000. A notice was published in the Federal Register pursuant to section 6(b) of the Act on June 29, 2000 (65 FR 40131).

Constance K. Robinson,
Director of Operations, Antitrust Division.

[FR Doc. 01-6887 Filed 3-19-01; 8:45 am]

BILLING CODE 4410-11-M